DEPARTMENT OF ENERGY

Federal Energy Regulatory Commission

Combined Notice of Filings

Take notice that the Commission has received the following Natural Gas Pipeline Rate and Refund Report filings:

Filings Instituting Proceedings

Docket Numbers: OR25-9-000.

Applicants: Liquids Shippers Group.

Description: Petition of the Liquids Shippers Group for Expedited Order Initiating an Inquiry into Resubmitted Form No. 6 Reports for 2020.

Filed Date: 6/16/25.

Accession Number: 20250616-5236.

Comment Date: 5 p.m. ET 7/16/25.

Docket Numbers: RP25-966-000.

Applicants: Jay-Bee Production Company v. Texas Gas Transmission, LLC.

Description: Complaint of Jay-Bee Production Company v. Texas Gas Transmission, LLC.

Filed Date: 6/24/25.

Accession Number: 20250624-5770.

Comment Date: 5 p.m. ET 7/24/25.

Docket Numbers: RP25-968-000.

Applicants: Southern Natural Gas Company, L.L.C.

Description: Compliance filing: SNG Compliance Filing for TGP Lease Associated With Docket No. CP20-51-000 to be effective 7/1/2025.

Filed Date: 6/24/25.

Accession Number: 20250624-5804.

Comment Date: 5 p.m. ET 7/7/25.

Docket Numbers: RP25-969-000.

Applicants: Iroquois Gas Transmission System, L.P.

Description: § 4(d) Rate Filing: 6.25.25 Negotiated Rates—Macquarie Energy LLC R-4090-35 to be effective 7/1/2025.

Filed Date: 6/25/25.

Accession Number: 20250625-5043.

Comment Date: 5 p.m. ET 7/7/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, tribal members and others, access publicly available information and navigate Commission processes. For public inquiries and assistance with making filings such as interventions, comments, or requests for rehearing, the public is encouraged to contact OPP at (202) 502-6595 or OPP@ferc.gov.

Dated: June 25, 2025.
Carlos D. Clay,
Deputy Secretary.

[FR Doc. 2025-12021 Filed 6-27-25; 8:45 am]

BILLING CODE 6717-01-P